DEPARTMENT OF TRANSPORTATION

Federal Aviation Administration

[Docket No. FAA-2003-14246]

Airport Privatization Pilot Program

AGENCY: Federal Aviation Administration (FAA), DOT.

ACTION: Notice of extension of comment period for final application of new Orleans Lakefront Airport, New Orleans, Louisiana; notice of public meeting.

SUMMARY: On January 16, 2003, the Federal Aviation Administration (FAA) published a notice in the Federal Register (68 FR 2391) seeking information and comments from interested parties on the final application by the Orleans Levee District for participation of New Orleans Lakefront Airport (NEW) in the Airport Privatization Pilot Program. The deadline for submitting comments was March 12, 2003. The comment period has now been extended until May 23, 2003, to allow the public more time to examine and comment on the final application. A public meeting will be held on May 10, 2003, to receive comments from airport users and interested parties.

DATES: Comments must be received by May 23, 2003. The public meeting will be held on Saturday, May 10, 2003 from 10 a.m. to 1 p.m.

ADDRESSES: The public meeting will be held in the administration building, New Orleans Lakefront Airport, 6001 Stars and Stripes Boulevard, New Orleans, Louisiana, telephone number, (504) 243-4000. The NEW final application is available for public review in the Dockets Office, U.S. Department of Transportation, Room Plaza 401, 400 Seventh Street, SW., Washington DC 20590-0001. The documents have been filed under FAA Docket Number 2003-14246. The Dockets Office is open between 9 a.m. and 5 p.m., Monday through Friday, except Federal holidays. The Dockets Office is on the plaza level of the Nassif Building at the Department of Transportation at the above address. Also, you may review public dockets on the Internet at http://dms.dot.gov.

The Orleans Levee District, the airport sponsor, has also made a copy of the application available at the following locations:

Circulation Desk at the Earl K. Long Library, University of New Orleans, 2000 Lakeshore Drive, New Orleans, Louisiana 70148.

The documents are available for review: Monday through Thursday, 7:45 a.m. to 11 p.m. Friday, 7:45 a.m. and 8 p.m. Saturday, 10 a.m. and 6 p.m. Sundays, 12 noon and 8 p.m. The Library is closed on all legal holidays. Library personnel will require presentation of picture identification.

Administration Building, New Orleans Lakefront Airport, 6001 Stars and Stripes Boulevard, New Orleans, Louisiana 70126.

The Administration Building is open weekdays from 9 a.m. and 4 p.m. with the exception of legal holidays. The contact person is Max L. Hearn who may be reached at (504) 243-4000.

Comments on the NEW final application must be delivered or mailed, in duplicate, to: the Docket Management System, U.S. Department of Transportation, Room Plaza 401, 400 Seventh Street, SW., Washington, DC 20590-0001. You must identify the docket number “FAA Docket No. 2003-14246 at the beginning of your comments. Commenters wishing the FAA to acknowledge receipt of their comments must include a preaddressed, stamped postcard on which the following statement is made:” “Comments to FAA Docket No. 2003-14246. The postcard will be date stamped and mailed to commenter. You may also submit comments through the Internet to http://dms.dot.gov.

FOR FURTHER INFORMATION CONTACT: Kevin C. Willis, Compliance Specialist (AAS-400), (202-267-8741) Airport Compliance Division, Office of Airport Safety and Standards, Federal Aviation Administration, 800 Independence Ave. SW., Washington, DC 20591.

SUPPLEMENTARY INFORMATION: Title 49 of the U.S. Code section 47134 authorizes the Secretary of Transportation, and through delegation, the FAA Administrator, to exempt a sponsor of a public use airport that has received Federal assistance from certain Federal requirements in connection with the privatization of the airport by sale or lease to a private party. Specifically, the Administrator may exempt the sponsor from all or part of the requirements to use airport revenues for airport-related purposes (upon approval of 65 percent of the air carriers serving the airport and having 65 percent of the landed weight), to pay back a portion of Federal grants upon the sale of an airport, and to return airport property deeded by the Federal Government upon transfer of the airport. The Administrator is also authorized to exempt the private purchaser or lessee from the requirement to use all airport revenues for airport-related purposes, to the extent necessary to permit the purchaser or lessee to earn compensation from the operations of the airport. (No air carrier approval is necessary for the latter exemption.)

On September 16, 1997, the FAA issued a notice of procedures to be used in applications for exemption under the Airport Privatization Pilot Program (62 FR 48693). The application procedures are available for review on the FAA Web site www2.faa.gov/arp/publications/fedreg.cfm?arpnav=fedr.

On March 2, 2000, Orleans Levee District submitted a preliminary application for the participation of the New Orleans Lakefront Airport in the Airport Privatization Pilot Program. On May 17, 2000, the FAA informed the Orleans Levee District that additional information was needed in order for the FAA to accept the application for further review. On January 19, 2001, the Orleans Levee District completed its submittal of all information previously requested by the FAA.

On March 8, 2001, the FAA informed the Orleans Levee District that it had accepted New Orleans Lakefront Airport's preliminary application for further review. This action permitted the Orleans Levee District to select a private operator, negotiate an agreement and submit a final application to the FAA for exemption. The filing date of the Orleans Levee District preliminary application was January 19, 2001; the date the FAA received a completed preliminary application. On April 23, 2002, the Orleans Levee District filed the final application.

The proceeds from the sale of lease of airport property are considered airport revenue and must be used in accordance with the requirements of 49 U.S.C. 47107(b) and 47133. In its final application, the Orleans Levee District requested an exemption under 49 U.S.C. 47134(b)(1) from 49 U.S.C. 47107(b) and 47133, to permit the Orleans Levee District to use compensation from the lease of airport property for non-airport purposes, forgo the repayment of Federal grants, and allow American Airports Lakefront, LLC to earn compensation from the operation of the airport.

The final application provides that American Airports Lakefront will operate the airport under a 50 year lease and pay the Orleans Levee District $300,000 in annual rental payments for the first three years. In the fourth year, American Airports Lakefront will pay $300,000 in annual rental payments or 11 percent of the airport's gross income not to exceed $3,000,000 plus 30 percent of the airport's gross income over $3,000,000.

On July 2, 2002, in an effort to clarify certain parts of the application, FAA staff requested responses to 26 questions. Three of the questions posed to the American Airports Lakefront required it to utilize confidential business or financial information in its response. In accordance with the airport privatization pilot program application procedures, 62 F.R. 48693, 48706 (September 16, 1997), the private operator has requested confidential treatment of this information. As a result, the three questions and their responses have been redacted and will not be available for public comment. Copies of the 26 questions and the 23 responses available for public view and comment are included in the sponsor's application for public review.

On November 7, 2002, the FAA requested responses to four additional questions. The questions and the responses are included in the docket for public review.

The FAA has determined that the application is substantially complete. As part of its review of the NEW final application, the FAA has extended the comment period until May 23, 2003.

The purpose of the public meeting scheduled for Saturday, May 10, 2003, is to accept public comments on the NEW final application for inclusion in Docket No. 2003-14246. The FAA will answer general questions on the Airport Privatization Pilot Program and how FAA requirements will apply to private airport operators generally. However, because the NEW final application is presently before the agency for a decision, the FAA will not be able to discuss the application or the pending agency decision. Individuals wishing to address the FAA panel can sign up at the airport administration building beginning at 9 am on the day of the public meeting. The FAA panel will begin accepting comments at 10 am.

Issued in Washington, DC, on March 10, 2003.
David L. Bennett,
Director, Office of Airport Safety and Standards.

[FR Doc. 03-6475 Filed 3-17-03; 8:45 am]

BILLING CODE 4910-13-M]